ENVIRONMENTAL PROTECTION AGENCY

[9976-15—Region 1]

Proposed CERCLA Administrative Cost Recovery Settlement; Gould Electronics Inc., New Hampshire Dioxane Site, Atkinson/Hampstead, New Hampshire

AGENCY: Environmental Protection Agency (EPA).

ACTION: Notice of proposed settlement; request for public comments.

SUMMARY: In accordance with section 122(i) of the Comprehensive Environmental Response Compensation, and Liability Act, as amended (“CERCLA”), notice is hereby given of a proposed administrative Settlement Agreement for recovery of Past Response Costs, as defined in the Settlement Agreement, under CERCLA section 122(h) of CERCLA, concerning the New Hampshire Dioxane Site, located in Atkinson and Hampstead, New Hampshire with Gould Electronics Inc. The settlement requires Gould Electronics Inc. to pay $1,900,000, plus interest on that amount calculated from March 28, 2016 through the date of payment, to the Hazardous Substance Superfund.

DATES: Comments must be submitted by May 7, 2018.

ADDRESSES: Comments should be addressed to John Hultgren, Enforcement Counsel, U.S. Environmental Protection Agency, 5 Post Office Square, Suite 100 (OES04-2), Boston, MA 02109-3912 and should refer to: In re: New Hampshire Dioxane Site, EPA Region 1 CERCLA Docket No. 01-2018-0013.

FOR FURTHER INFORMATION CONTACT: A copy of the proposed Settlement Agreement may be obtained from John Hultgren, Enforcement Counsel, U.S. Environmental Protection Agency, 5 Post Office Square, Suite 100 (OES04-2), Boston, MA 02109-3912; (617) 918-1761; hultgren.john@epa.gov.

SUPPLEMENTARY INFORMATION: For 30 days following the date of publication of this notice, the Agency will receive written comments relating to the settlement. The United States will consider all comments received and may modify or withdraw its consent to the settlement if comments received disclose facts or considerations which indicate that the settlement is inappropriate, improper, or inadequate. The Agency's response to any comments received will be available for public inspection at 5 Post Office Square, Boston, MA 02109-3912.

The proposed Settlement Agreement includes a covenant from EPA not to sue or take administrative action against Gould Electronics Inc. pursuant to section 107(a) of CERCLA, 42 U.S.C. 9607(a), to recover Past Response Costs, and protection for Gould Electronics, Inc. from contribution actions or claims as provided by sections 113(f)(2) and 122(h)(4) of CERCLA, 42 U.S.C. Section 9613(f)(2) and 9622(h)(4). The settlement has been approved by the Environmental and Natural Resources Division of the United States Department of Justice.

Dated: March 2, 2018.
Nancy Barmakian,
Acting Director, Office of Site Remediation and Restoration.

[FR Doc. 2018-06779 Filed 4-4-18; 8:45 am]

BILLING CODE 6560-50-P